DEPARTMENT OF LABOR

Office of the Secretary

Combating Exploitive Child Labor Through Education in Colombia; Combating Exploitive Child Labor Through Education in Guinea; Combating Exploitive Child Labor Through Education in Niger

July 27, 2004.

AGENCY: Bureau of International Labor Affairs, Department of Labor.

Announcement Type: New. Notice of Availability of Funds and Solicitation for Cooperative Agreement Applications.

Funding Opportunity Number: SGA 04-10.

Catalog of Federal Domestic Assistance (CFDA) Number: Not applicable.

Key Dates: Deadline for Submission of Application is August 26, 2004.

SUMMARY: The U.S. Department of Labor, Bureau of International Labor Affairs, will award up to U.S. $9.5 million through one or more cooperative agreements to an organization or organizations to improve access to quality education programs as a means to combat exploitive child labor in Colombia (up to $3.5 million), Guinea (up to $4 million), and Niger (up to $2 million). The activities funded will complement and expand upon existing projects and programs to improve basic education in these countries, and, where applicable, provide access to basic education to children in areas with a high incidence of exploitive child labor. Applications must respond to the entire Statement of Work outlined in this Solicitation for Cooperative Agreement Applications. In Colombia and Guinea, activities under these cooperative agreements will provide or facilitate the direct delivery of quality basic education to working children and those at risk of entering work. In Niger, activities under this cooperative agreement will support a small-scale project aimed at increasing the knowledge base on child labor and education, facilitating the direct delivery of quality basic education to working children, and building the capacity of government and local actors working in these sectors.

I. Funding Opportunity Description

The U.S. Department of Labor (USDOL), Bureau of International Labor Affairs (ILAB), announces the availability of funds to be awarded by cooperative agreement to one or more qualifying organizations for the purpose of expanding access to and quality of basic education and strengthening government and civil society's capacity to address the education needs of working children and those at risk of entering work in Colombia, Guinea, and Niger. ILAB is authorized to award and administer this program by the Consolidated Appropriations Act, 2004, Pub. L. No. 108-199, 118 Stat. 3 (2004). The cooperative agreement or cooperative agreements awarded under this initiative will be managed by ILAB's International Child Labor Program to assure achievement of the stated goals. Applicants are encouraged to be creative in proposing cost-effective interventions that will have a demonstrable impact in promoting school attendance in areas of those countries where children are engaged in or are most at risk of working in the worst forms of child labor.

1. Background and Program Scope

A. USDOL Support of Global Elimination of Exploitive Child Labor

The International Labor Organization (ILO) estimated that 211 million children ages 5 to 14 were working around the world in 2000. Full-time child workers are generally unable to attend school, and part-time child laborers balance economic survival with schooling from an early age, often to the detriment of their education. Since 1995, USDOL has provided over U.S. $275 million in technical assistance funding to combat exploitive child labor in over 60 countries around the world.

Programs funded by USDOL range from targeted action programs in specific sectors to more comprehensive efforts that target the worst forms of child labor as defined by ILO Convention 182. From FY 2001 to FY 2004, the U.S. Congress has appropriated U.S. $148 million to USDOL for a Child Labor Education Initiative to fund programs aimed at increasing access to quality, basic education in areas with a high incidence of abusive and exploitive child labor. The cooperative agreement(s) awarded under this solicitation will be funded through this initiative.

USDOL's Child Labor Education Initiative seeks to nurture the development, health, safety and enhanced future employability of children around the world by increasing access to basic education for working children and those at risk of entering work. Elimination of exploitive child labor depends in part on improving access to, quality of, and relevance of education.

The Child Labor Education Initiative has four goals:

i. Raise awareness of the importance of education for all children and mobilize a wide array of actors to improve and expand education infrastructures;

ii. Strengthen formal and transitional education systems that encourage working children and those at risk of working to attend school;

iii. Strengthen national institutions and policies on education and child labor; and

iv. Ensure the long-term sustainability of these efforts.

B. Barriers to Education for Working Children, Country Background, and Focus of Solicitation

Throughout the world, there are complex causes of exploitive child labor as well as barriers to education for children engaged in or at risk of entering exploitive child labor. These include: Poverty; education system barriers; infrastructure barriers; legal and policy barriers; resource gaps; institutional barriers; informational gaps; demographic characteristics of children and/or families; cultural and traditional practices; and weak labor markets.

Although these elements and characteristics tend to exist throughout the world in areas with a high incidence of exploitive child labor, they manifest themselves in specific ways in each country of interest in this solicitation. Therefore, specific, targeted interventions are required in each target country. In Colombia, this project must provide or facilitate the direct delivery of education to children working in the flower cutting industry in the Savannah of Bogotá, support the collection of data on this target population, and build the capacity of national institutions to address child labor and education. Lessons from the project's direct interventions should be used to develop broader policies aimed at improving access and quality of education for this target group in Colombia and other countries in the region. In Guinea, this project must aim to provide or facilitate the direct delivery of formal education and/or non-formal, vocational, or technical training to children at risk of or working in the worst forms of child labor. The project must include innovative strategies to promote access to education as well as quality of such education, and should include measures to ensure the sustainability of interventions. And in Niger, activities under this cooperative agreement must support a small-scale project to address gaps in the knowledge base on child labor and education, facilitate access to quality, basic education for children participating in or at risk of entering the worst forms of child labor, and strengthen national institutions and policies in these sectors. For any of these projects, applicants must be able to identify the specific barriers to education and the education needs of specific children targeted in their project (e.g., children withdrawn from work, children at high risk of dropping out into the labor force, and/or children still working in a particular sector) and how direct education service delivery, capacity building and policy change can be used to address particular barriers and needs. Brief background information on education and exploitive child labor in each of the countries of interest is provided below. For additional information on exploitive child labor in these countries, applicants are referred to The Department of Labor's 2003 Findings on the Worst Forms of Child Labor available at http://www.dol.gov/ILAB/media/reports/iclp/tda2003/overview.htm or in hard copy from Lisa Harvey, U.S. Department of Labor, Procurement Services Center, telephone (202) 693-4570 (this is not a toll-free-number) or e-mail: harvey.lisa@dol.gov.

C. Barriers to Education for Working Children in Colombia

In 2001, the Colombian National Administrative Department of Statistics estimated that 14.5 percent of children, or 2.5 million children, ages 5 to 17 were working. This number represents 23 percent of the total population of 10,833,000 within that age range. Most working children are involved in agriculture-related activities. The majority of these children work in the country's central region, especially in the rural areas surrounding the cities of Medellín, Manizares, Bucaramanga, and in the Savannah of Bogotá.

ILO/IPEC reports that 70 percent of children working in agriculture worldwide are engaged in high-risk activities. There are reports that children illegally employed in Colombia's flower cutting industry are exposed to hazardous working conditions. They handle highly toxic pesticides, mixing them in tanks without gloves, masks or any kind of protection. The long-lasting health effects pesticides cause can be aggravated by malnutrition, which is also endemic among these children. Children also work long hours and at a very fast pace, especially during Christmas and Valentine's Day holidays. Intermediary employment agencies reportedly bring children to work when demand for flowers rise.

Commercial flower cultivation takes place in the Savannah in the outskirts of Bogotá, and it has been reported that most children working in the flower industry live in the localities of Madrid and Funza. Children's participation in the flower industry is difficult to ascertain. As of yet, there is no reliable data on participation, working conditions, or how these children's education and well-being is affected.

Under the Colombian Constitution, basic education is free and compulsory for children ages 5 to 15. In 2003, 86 percent of the total school age population was enrolled in formal basic education. The majority of children attending school reside in urban areas in all regions. Fifty-one percent of children not enrolled in formal education reside in rural areas and are between the ages of 12 and 17. In rural areas, children's work in agriculture has been reported as the main reason for school absenteeism. Studies show that even though rural families recognize the value of reading, writing, and arithmetic, they are less willing to send their children to school—especially to secondary school—because they see them as ready to assume economic responsibilities, or need them to work at home on agricultural tasks. Other factors limiting education in rural areas include proximity to schools, scarcity of teaching materials, and the relevance of the curriculum to rural life.

A USDOL-funded education initiative, funded under this solicitation, will provide or facilitate the direct delivery of education to children working in the flower industry in the Savannah. Due to the lack of interventions in commercial agriculture in Colombia, project activities must include the collection of data on the nature and extent of child labor in the flower industry of Colombia. The data collection is expected to focus on the availability, quality and extent of education for child laborers in the flower industry. Based on the findings, a project should address the education needs of those children.

Funds provided under this solicitation are expected to supply the seed money to develop effective approaches to provide basic, technical, and vocational education to children involved in the flower industry of Colombia. Education could include basic literacy and numeracy, as well as means to continue the education of children who drop out of school during flower harvesting and other busy periods.

Colombia is currently undergoing a process of decentralization of government activities. In order to maximize impact and ensure sustainability, the project must coordinate with local government efforts. Applicants are encouraged to consult with civil society organizations and government agencies, such as the Ministry of Social Protection, the Ministry of Education, and the Colombian Institute of Family Welfare, in order to avoid replication and strengthen existing efforts to prevent and eliminate child labor. Under this initiative, the local community will play a key role in the schools of the targeted area, linking local culture and needs to the education system. Moreover, lessons learned from projects such as those implemented by the National Coffee Federation-Ministry of Education must be taken into account at the time of proposal development.

The United States is the main importer of flowers from Colombia, accounting for 80 percent of Colombian flower exports. As such, the Colombian flower industry has a keen interest in complying with international labor standards and domestic labor laws. Applicants are encouraged to promote private-public partnerships in order to leverage resources to combat child labor in the flower industry.

Barriers to Education for Working Children in Guinea

In 2001, the ILO estimated that 30.5 percent of children ages 10 to 14 years in Guinea were working. These children begin working beside their parents at a young age, often as early as 5 years in rural areas. The majority of working children are found in the domestic or informal sectors, carrying out activities such as subsistence farming, petty commerce, fishing, and small-scale mining. In urban areas such as Conakry, children work in small businesses, such as restaurants, beg on the streets, sell cheap goods for traders, carry baggage, and shine shoes. Children also work in gold and diamond mines, granite and sand quarries, and as apprentices to mechanics, electricians, and plumbers, and in the commercial sex industry.

Guinea is a source, transit and destination country for trafficking in persons, including children, for sexual exploitation and labor, and internal trafficking occurs from rural to urban areas. In addition, UNICEF estimates that 2,000 Guinean child soldiers, one-fifth of whom are girls, will require demobilization upon their return from Liberia's recent armed conflict.

There are numerous obstacles to education in Guinea, particularly among the country's displaced and war-affected population. Children, particularly girls, may not attend school or may choose to dropout in order to assist their parents with domestic or agricultural work. In general, enrollment rates are substantially lower in rural areas. This is due in part to a lack of transportation to and from schools, a lack of school facilities, and an inadequate number of teachers, many of whom do not receive remuneration for their work. Quality of education is negatively affected by limited government resources and a lack of available school supplies and equipment.

According to various estimates, there are between 100,000 and 150,000 refugees and displaced persons residing in Guinea's forest region. An additional 100,000 people are reported to live in refugee camps in the region. The war-affected, displaced children in this region are reportedly subject to economic exploitation and sexual abuse. In addition, while limited access to education is available within the refugee camps, there is a lack of sufficient educational opportunities for children who are not located near the camps, or do not otherwise have access to camp facilities.

A USDOL-funded education initiative in Guinea is expected to provide or facilitate the direct delivery of formal education and/or non-formal, vocational, or technical training to children engaged in, at risk of, and/or removed from exploitive child labor in a defined sector(s) or geographic region. The project should include innovative strategies to promote access to education as well as quality of such education, and should include measures to ensure the sustainability of interventions.

The project may include some or all of the following activities: awareness-raising; development of multi-sectoral partnerships and networks in support of the education of the target group; development and field testing of learning materials that improve educational quality; development or improvement of pre-vocational and vocational programs; strategies to enhance the relevance of schooling for children and to provide marketable skills for children reaching employable age; targeted teacher training to improve classroom methods and strengthen the capacity of educators to nurture the academic success of children removed from child labor; pre-school and extracurricular/enrichment activities for children removed from work or at risk of entering the workforce; workshops that encourage consultation and joint policy and program planning among national institutions working in education and child labor policy; provision of training and technical assistance to staff of key organizations (e.g., education system and school administrators, teachers' unions, policy units in Guinean ministries) to increase their capacity in areas such as leadership, management, strategic planning, educational finance, implementation of policy change, and outreach to constituencies in order to effectively implement education programs that benefit child laborers; and the development and/or strengthening of monitoring and evaluation of the educational status and performance of children removed from work or at risk of entering the workforce.

Barriers to Education for Working Children in Niger

In 2000, UNICEF estimated that 70.1 percent of children ages 5 to 14 years in Niger were working in paid and unpaid activities. While general information is available about the types of work that children perform, there has not been a comprehensive survey that provides detailed data or information on the extent or nature of child labor in Niger. Studies indicate that children work primarily in the informal and agricultural sectors. Children in rural areas mainly work on family farms gathering water or firewood, pounding grain, tending animals, or working in the fields. Children as young as 6 years old are reported to work on grain farms in the southwest. Children also shine shoes; guard cars; work as apprentices for artisans, tailors, and mechanics; perform domestic work; and work as luggage porters and street beggars. Children are also engaged in the gold mining and meatpacking, processing and rendering sectors where they are exposed to numerous hazards.

Niger is a source, transit, and destination country for trafficking victims, including children. Victims are trafficked to Niger primarily from Benin, Togo, Nigeria, and Ghana. Most of these children end up either in domestic work or prostitution. Children from Niger are trafficked within the country from rural to urban areas and within the West African region for the purpose of forced labor, particularly in domestic service. It is also reported that some teachers at religious schools exploit their young male students by coercing them to beg in the streets. The commercial sexual exploitation of children for prostitution and pornography is a growing problem in Niger, and sometimes occur with the consent or knowledge of family members.

Primary school attendance rates are low in Niger, particularly for girls. About 60 percent of children who finish primary schools are boys, as the majority of girls rarely attend school for more than a few years. Girls have limited access to education, which may be attributed to traditional practices, conservative religious beliefs and extreme poverty. Many children are forced to work rather than attend school, particularly during planting or harvest periods. In addition, nomadic children in northern parts of the country often do not have the opportunity to attend school.

Among the challenges faced by the Nigerien education system are antiquated primary teaching methodologies; pre-school education that is restricted primarily to urban areas; a reluctance by parents to send their children to school due to inefficiencies in the educational system and mediocre results among students; inadequate infrastructure; lack of motivated teachers due to delayed disbursement of salaries; lack of supplies; and an economic crisis that makes it difficult for parents to cover the costs of schooling.

Under this solicitation, USDOL is seeking proposals for a small-scale project in Niger to increase the knowledge base on child labor and education and to improve government and civil society capacity to initiate activities or national plans of action in these sectors. The project may include limited direct action in a defined sector or geographic region to facilitate access to quality, basic education for children participating in or at risk of entering the worst forms of child labor.

Note to Applicants for All Countries: All applicants must have country presence, or partner with an established and eligible organization within the country. For additional information on exploitive child labor in Colombia, Guinea, and Niger, applicants are strongly encouraged to refer to The Department of Labor's 2003 Findings on the Worst Forms of Child Labor available at http://www.dol.gov/ILAB/media/reports/iclp/tda2003/overview.htm.

2. Statement of Work

Taking into account the challenges of educating working children in each country of interest, the applicant must facilitate, and implement, as appropriate, creative and innovative approaches to promote policies and services that will enhance the provision of educational opportunities to children involved in or at risk of entering exploitive child labor. The expected outcomes/results of the project are, through improved policies and direct education service delivery, as applicable, to: (1) Increase educational opportunities and access (enrollment) for children who are engaged in, at risk of, and/or removed from exploitive child labor, particularly its worst forms; (2) encourage retention in, and completion of educational programs; and (3) expand the successful transition of children in non-formal education into formal schools or vocational programs.

In the course of implementation, each project must promote the goals of USDOL's Child Labor Education Initiative listed above in Section I(1)(A). Because of the limited available resources under this award, applicants are expected to implement programs that complement existing efforts and, where appropriate, replicate or enhance successful models to serve expanded numbers of children and communities. However, applicants must not duplicate the activities of existing efforts and/or projects and are expected to work within host government child labor and education frameworks. In order to avoid duplication, enhance collaboration, expand impact, and develop synergies, the cooperative agreement awardee (hereafter referred to as “Grantee”) must work cooperatively with regional and national stakeholders in developing project interventions. Applicants are expected to consider the economic and social contexts of each country when formulating project strategies and to recognize that approaches applicable in one country may not be relevant to others.

Applicants are strongly encouraged to discuss proposed interventions, strategies, and activities with host government officials and civil society organizations during the preparation of an application for this cooperative agreement solicitation. Applicants are encouraged to include letters of endorsement/acknowledgment from the host government's Ministry of Labor and Ministry of Education with the proposal.

Partnerships between more than one organization are also eligible and encouraged, in particular with qualified, locally-based organizations in order to build local capacity; in such a case, however, a lead organization must be identified. Applicants whose strategies include the direct delivery of education are encouraged to enroll at least one-quarter of the targeted children that the Grantee is attempting to reach in educational activities during the first year of project implementation. Under this cooperative agreement, vocational training for adolescents and income generating alternatives for parents are allowable activities.

Although USDOL is open to all proposals for innovative solutions to address the challenges of providing increased access to education to the children targeted, the applicant must, at a minimum, prepare responses following the outline of a preliminary project design document presented in Appendix A and as discussed in Sections IV(2), V(1)(A), VI(3)(A) and VI(3)(D). This response will be the foundation for the final project document that must be approved after award of the cooperative agreement.

If the application does not propose interventions aimed toward the target group or geographical area as identified, then the application may be considered unresponsive.

Note to All Applicants: Grantees are expected to consult with and work cooperatively with stakeholders in the countries, including the Ministries of Education, Labor, and other relevant ministries, NGOs, national steering/advisory committees on child labor, education, faith and community-based organizations, and working children and their families. Grantees should ensure that their proposed activities and interventions are within those of the countries' national child labor and education frameworks and priorities, as applicable. Grantees are strongly encouraged to collaborate with existing projects, particularly those funded by USDOL, including Timebound Programs and other projects implemented by ILO/IPEC. As discussed in Section V(1)(D), up to five (5) extra points will be given to applications that include non-Federal resources that significantly expand the project's scope. However, applicants are instructed that the project budget submitted with the application must include all necessary and sufficient funds, without reliance on other contracts, grants, or awards, to implement the applicant's proposed project activities and to achieve proposed project goals and objectives under this SGA. USDOL will not provide additional funding to cover costs not included in the project budget, for example, if anticipated funding from another contract, grant, or award fails to materialize.

II. Award Information

Type of assistance instrument: Cooperative agreement. USDOL's involvement in project implementation and oversight is outlined in Section VI(2). The duration of the projects funded by this solicitation is four (4) years. The start date of program activities will be negotiated upon awarding of the cooperative agreement, but will be no later than September 30, 2004.

Up to U.S. $9.5 million will be awarded under this solicitation, with up to $3.5 million for Colombia, up to $4 million for Guinea, and up to $2 million for Niger. USDOL may award one or more cooperative agreements to one, several, or a partnership of more than one organization(s) that may apply to implement the program. A Grantee must obtain prior USDOL approval for any sub-contractor before award of the cooperative agreement.

III. Eligibility Information

1. Eligible Applicants

Any commercial, international, educational, or non-profit organization, including any faith-based, community-based, or public international organization, capable of successfully developing and implementing education programs for working children or children at risk of entering exploitive work in the countries of interest is eligible to apply. Partnerships of more than one organization are also eligible, and applicants are strongly encouraged to work with organizations already undertaking projects in the countries of interest, particularly local NGOs, including faith-based and community-based organizations. In the case of partnership applications, a lead organization must be identified. An applicant must demonstrate a country presence, independently or through a relationship with another organization(s) with country presence, which gives it the ability to initiate program activities upon award of the cooperative agreement. Applicants applying for more than one Cooperative Agreement must submit a separate application for each country. If applications for more than one of the Cooperative Agreements (Colombia, Guinea, Niger) are combined, they will not be considered. (All applicants are requested to complete the Survey on Ensuring Equal Opportunity for Applicants (OMB No. 1225-0083), which is available online at http://www.dol.gov/ILAB/grants/sga0410/bkgrdSGA0410.htm). The capability of an applicant or applicants to perform necessary aspects of this solicitation will be determined under the criteria outlined in the Application Review Information section of this solicitation (Section V(1)).

Please note that to be eligible, Cooperative Agreement applicants classified under the Internal Revenue Code as a 501(c)(4) entity (see 26 U.S.C. 501(c)(4)), may not engage in lobbying activities. According to the Lobbying Disclosure Act of 1995, as codified at 2 U.S.C. 1611, an organization, as described in Section 501(c)(4) of the Internal Revenue Code of 1986, that engages in lobbying activities will not be eligible for the receipt of Federal funds constituting an award, grant, cooperative agreement, or loan.

2. Cost Sharing or Matching

This solicitation does not require applicants to share costs or provide matching funds. However, the leveraging of resources and in-kind contributions is strongly encouraged and is a ranking factor worth five additional points.

3. Other Eligibility Criteria

In accordance with 29 CFR Part 98, entities that are debarred or suspended shall be excluded from Federal financial assistance and are ineligible to receive funding under this solicitation. In judging organizational capacity, USDOL will take into account not only information provided by an applicant, but also information from the Department regarding past performance of organizations that have implemented or are implementing Child Labor Education Initiative projects or activities for USDOL (see Section V(1)(B)). Past performance will be rated by the timeliness of deliverables, and the responsiveness of the organization and its staff to USDOL communications regarding deliverables and cooperative agreement or contractual requirements. Lack of past experience with USDOL projects, cooperative agreements, grants, or contracts is not a bar to eligibility or selection under this Solicitation.

With regard to legal rules pertaining to inherently religious activities by organizations that receive Federal Financial Assistance, neutral, non-religious criteria that neither favor nor disfavor religion will be employed in the selection of cooperative agreement recipients. Neutral, non-religious criteria that neither favor nor disfavor religion must be employed by Grantees in the selection of project beneficiaries and subawardees.

In addition, the U.S. Government is generally prohibited from providing direct financial assistance for inherently religious activities. Funds awarded under this solicitation may not be used for religious instruction, worship, prayer, proselytizing or other inherently religious activities.

IV. Application and Submission Information

1. Address To Request Application Package

This solicitation contains all of the necessary information and forms needed to apply for cooperative agreement funding. This solicitation is published as part of this Federal Register notice. Additional copies of the Federal Register may be obtained from your nearest U.S. Government office or public library or online at http://www.archives.gov/federal_register/index.html.

2. Content and Form of Application Submission

One (1) blue ink-signed original, complete application in English plus two (2) copies of the application, must be submitted to the U.S. Department of Labor, Procurement Services Center, 200 Constitution Avenue, NW., Room N-5416, Attention: Lisa Harvey, Reference Solicitation 04-10, Washington, DC 20210, not later than 4:45 p.m. Eastern Time, August 26, 2004. Applicants may submit applications for one or more countries. In the case where an applicant is interested in applying for a cooperative agreement in more than one country, a separate application must be submitted for each country. If applications for multiple countries are combined, they will not be considered.

The application must consist of two (2) separate parts, as well as a table of contents and an abstract summarizing the application in not more than two (2) pages. The table of contents and an abstract are not included in the 45-page limit for Part II.

Part I of the application, the cost proposal, must contain the Standard Form (SF) 424, Application for Federal Assistance and Sections A-F of the Budget Information Form SF 424A, available from ILAB's Web site at http://www.dol.gov/ILAB/grants/sga0410/bkgrdSGA0410.htm. Copies of these forms are also available online from the General Services Administration Web site at http://contacts.gsa.gov/webforms.nsf/0/B835648D66D1B8F985256A72004C58C2/$file/sf424.pdf and http://contacts.gsa.gov/webforms.nsf/0/5AEB1FA6FB3B832385256A72004C8E77/$file/Sf424a.pdf. The individual signing the SF 424 on behalf of the applicant must be authorized to bind the applicant. The budget/cost proposal must be written in 10-12 pitch font size.

Part II, the technical proposal, must provide a technical application that identifies and explains the proposed program and demonstrates the applicant's capabilities to carry out that proposal. The technical application must identify how it will carry out the Statement of Work (Section I(2) of this solicitation) and address each of the Application Evaluation Criteria found in Section V(1). The Part II technical application must not exceed 45 single-sided (8½″ x 11″), double-spaced, 10 to 12 pitch typed pages for each country, and must include responses to the application evaluation criteria outlined in Section V(1) of this solicitation. Part II must include a preliminary project design document submitted in the format shown in Appendix A and discussed further in Section VI(3)(A). The application must include the name, address, telephone and fax numbers, and e-mail address (if applicable) of a key contact person at the applicant's organization in case questions should arise.

Applications will only be accepted in English. To be considered responsive to this solicitation, the application must consist of the above-mentioned separate parts. Any applications that do not conform to these standards may be deemed non-responsive to this solicitation and may not be evaluated. Standard forms and attachments are not included in the 45-page limit for Part II. However, additional information not required under this solicitation will not be considered.

3. Submission Dates, Times, and Address

Applications must be delivered by 4:45 p.m., Eastern Time, August 26, 2004, to: U.S. Department of Labor, Procurement Services Center, 200 Constitution Avenue, NW., Room N-5416, Attention: Lisa Harvey, Reference: Solicitation 04-10, Washington, DC 20210. Applications sent by e-mail, telegram, or facsimile (FAX) will not be accepted. Applications sent by other delivery services, such as Federal Express, UPS, will be accepted; however, the applicant bears the responsibility for timely submission. The application package must be received at the designated place by the date and time specified or it will not be considered. Any application received at the Procurement Services Center after 4:45 p.m. Eastern Time, August 26, 2004, will not be considered unless it is received before the award is made and:

A. It is determined by the Government that the late receipt was due solely to mishandling by the Government after receipt at USDOL at the address indicated; and/or

B. It was sent by registered or certified mail not later than the fifth calendar day before 30 days from the date of publication in the Federal Register; or

C. It was sent by U.S. Postal Service Express Mail Next Day Service-Post Office to Addressee, not later than 5 p.m. at the place of mailing two (2) working days, excluding weekends and Federal holidays, prior to August 26, 2004.

The only acceptable evidence to establish the date of mailing of a late application sent by registered or certified mail is the U.S. Postal Service postmark on the envelope or wrapper and on the original receipt from the U.S. Postal Service. If the postmark is not legible, an application received after the above closing time and date shall be processed as if mailed late. “Postmark” means a printed, stamped, or otherwise placed impression (not a postage meter machine impression) that is readily identifiable without further action as having been applied and affixed by an employee of the U.S. Postal Service on the date of mailing. Therefore, applicants should request that the postal clerk place a legible hand cancellation “bull's-eye” postmark on both the receipt and the envelope or wrapper.

The only acceptable evidence to establish the date of mailing of a late application sent by U.S. Postal Service Express Mail Next Day Service-Post Office to Addressee is the date entered by the Post Office clerk on the “Express Mail Next Day Service-Post Office to Addressee” label and the postmark on the envelope or wrapper on the original receipt from the U.S. Postal Service. “Postmark” has the same meaning as defined above. Therefore, applicants should request that the postal clerk place a legible hand cancellation “bull's-eye” postmark on both the receipt and the envelope or wrapper.

The only acceptable evidence to establish the time of receipt at USDOL is the date/time stamp of the Procurement Service Center on the application wrapper or other documentary evidence of receipt maintained by that office.

Confirmation of receipt can be obtained from Lisa Harvey, U.S. Department of Labor, Procurement Services Center, telephone (202) 693-4570 (this is not a toll-free-number) or e-mail: harvey.lisa@dol.gov. All applicants are advised that U.S. mail delivery in the Washington DC area can be slow and erratic due to concerns involving contamination. All applicants must take this into consideration when preparing to meet the application deadline.

4. Intergovernmental Review

This funding opportunity is not subject to Executive Order 12372, “Intergovernmental Review of Federal Programs.”

5. Funding Restrictions

A. In addition to those specified under OMB Circular A-122, the following costs are also unallowable:

i. Construction with funds under this cooperative agreement should not exceed 10 percent of the project budget's direct costs and is expected to be limited to improving existing school infrastructure and facilities in the project's targeted communities. USDOL encourages applicants to cost-share and/or leverage funds or in-kind contributions from local partners when proposing construction activities in order to ensure sustainability.

ii. Under these cooperative agreements, vocational training for adolescents and income generating alternatives for parents are allowable activities. However, Federal funds under these cooperative agreements cannot be used to provide micro-credits, revolving funds, or loan guarantees.

iii. Awards will not allow reimbursement of pre-award costs.

B. The following activities are also unallowable under this solicitation:

i. Under these cooperative agreements, awareness raising and advocacy activities cannot include lobbying or fund-raising (see OMB Circular A-122).

ii. The U.S. Government is opposed to prostitution and related activities, which are inherently harmful and dehumanizing, and contribute to the phenomenon of trafficking in persons. U.S. non-governmental organizations, and their sub-awardees, cannot use U.S. Government funds to lobby for, promote or advocate the legalization or regulation of prostitution as a legitimate form of work. Foreign non-governmental organizations, and their sub-awardees, that receive U.S. Government funds to fight trafficking in persons cannot lobby for, promote or advocate the legalization or regulation of prostitution as a legitimate form of work. It is the responsibility of the primary Grantee to ensure its sub-awardees meet these criteria. (The U.S. Government is currently developing language to specifically address Public International Organizations' implementation of the above anti-prostitution prohibition. If a project under this SGA is awarded to such an organization, appropriate substitute language for the above prohibition will be included in the project's cooperative agreement.)

FOR FURTHER INFORMATION CONTACT: Lisa Harvey. E-mail address: harvey.lisa@dol.gov.

V. Application Review Information

1. Application Evaluation Criteria

Technical panels will review applications written in the specified format (see Section I, Section IV(2) and Appendix A) against the various criteria on the basis of 100 points. Up to five additional points will be given for the inclusion of non-Federal leveraged resources as described below in Section V(1)(D). Applicants are requested to prepare their technical proposal (45 page maximum) on the basis of the following rating factors, which are presented in the order of emphasis that they will receive, and the maximum rating points for each factor.

Program Design/Budget-Cost Effectiveness—45 points

Organizational Capacity—30 points

Management Plan/Key Personnel/Staffing—25 points

Leveraging Resources—5 extra points

A. Project/Program Design/Budget-Cost Effectiveness (45 Points)

This part of the application constitutes the preliminary project design document described in Section VI(3)(A), and outlined in Appendix A. The applicant's proposal must describe in detail the proposed approach to comply with each requirement.

This component of the application must demonstrate the applicant's thorough knowledge and understanding of the issues, barriers and challenges involved in providing education to children engaged in or at risk of engaging in exploitive child labor, particularly its worst forms; best-practice solutions to address their needs; and the policy and implementing environment in the selected country. When preparing the project document outline, the applicant must at minimum include a description of:

i. Children Targeted—The applicant must identify which and how many children are expected to benefit from the project, including the sectors in which they work, geographical location, and other relevant characteristics. Children are defined as persons under the age of 18 who have been engaged in the worst forms of child labor as defined by ILO Convention 182, or those under the legal working age of the country and who are engaged in other hazardous and/or exploitive activities.

ii. Needs/Gaps/Barriers—The applicant must describe the specific gaps/educational needs of the children targeted that the project will address.

iii. Proposed Strategy—The applicant must discuss the proposed strategy to address gaps/needs/barriers of the children targeted and its rationale.

iv. Description of Activities—The applicant must provide a detailed description of proposed activities that relate to the gaps/needs/barriers to be addressed, including training and technical assistance to be provided to project staff, host country nationals, and community groups involved in the project. The proposed approach is expected to build upon existing activities, government policies, and plans, and avoid needless duplication.

v. Work Plan—The applicant must provide a detailed work plan and timeline for the proposed project, preferably with a visual such as a Gantt chart. Applicants whose strategies include the provision of direct delivery of education are also encouraged to enroll one-quarter of the targeted children in educational activities during the first year of project implementation.

vi. Program Management and Performance Assessment—The applicant must describe: (1) How management will ensure that the goals and objectives will be met; (2) how information and data will be collected and used to demonstrate the impacts of the project; and (3) what systems will be put in place for self-assessment, evaluation and continuous improvement. Note to All Applicants: USDOL has already developed common indicators and a database system for monitoring children's educational progress that can be used and adapted by Grantees after award so that they do not need to set up this type of system from scratch. For more information on the Child Labor Education Initiative's common indicators, please visit http://www.clear-measure.com. Further guidance on common indicators will be provided after award, thus applicants should focus their program management and performance assessment responses toward the development of their project's monitoring strategy in support of the four goals of the Child Labor Education Initiative set out in Section I(1)(A).

vii. Budget/Cost Effectiveness—The applicant must show how the budget reflects program goals and design in a cost-effective way to reflect budget/performance integration. The budget must be linked to the activities and outputs of the implementation plan listed above. This section of the application must explain the costs for performing all of the requirements presented in this solicitation, and for producing all required reports and other deliverables. Costs must include labor, equipment, travel, annual audits, evaluations, and other related costs. Applications are expected to allocate sufficient resources to proposed studies, assessments, surveys, and monitoring and evaluation activities. When developing their applications, applicants are also expected to allocate the largest proportion of resources to educational activities aimed at targeted children, rather than direct administrative costs. Preference may be given to applicants with low administrative costs and with a budget breakdown that provides a larger amount of resources to project activities. All projected costs should be reported, as they will become part of the cooperative agreement upon award. In their cost proposal (Part I of the application), applicants must reflect a breakdown of the total administrative costs into direct administrative costs and indirect administrative costs. This section will be evaluated in accordance with applicable Federal laws and regulations. The budget must comply with Federal cost principles (which can be found in the applicable OMB Circulars). An example of an Outputs Based Budget has been provided as Annex B.

Applicants are encouraged to discuss the possibility of exemption from customs and Value Added Tax (VAT) with host government officials during the preparation of an application for this cooperative agreement. While USDOL encourages host governments to not apply custom or VAT taxes to USDOL-funded programs, some host governments may nevertheless choose to assess such taxes. USDOL may not be able to provide assistance in this regard. Applicants should take into account such costs in budget preparation. If major costs are omitted, a Grantee may not be allowed to include them later.

B. Organizational Capacity (30 Points)

Under this criterion, the applicant must present the qualifications of the organization(s) implementing the program/project. The evaluation criteria in this category are as follows:

i. International Experience—The organization applying for the award has international experience implementing basic, transitional, non-formal or vocational education programs that address issues of access, quality, and policy reform for vulnerable children including children engaged in or at risk of exploitive child labor, preferably in the countries of interest.

ii. Country Presence—An applicant, or its partners, must be formally recognized by the host government(s) using the appropriate mechanism, e.g., Memorandum of Understanding, local registration of organization. An applicant must also demonstrate a country presence, independently or through a relationship with another organization(s) with country presence, which gives it the ability to initiate program activities upon award of the cooperative agreement, as well as the capability to work directly with government ministries, educators, civil society leaders, and other local faith-based or community organizations. For applicants that do not have independent country presence, documentation of the relationship with the organization(s) with such a presence must be provided. Applicants are strongly encouraged to work collaboratively with local partners and organizations.

iii. Fiscal Oversight—The organization shows evidence of a sound financial system. The results of the most current independent financial audit must accompany the application as an attachment, and applicants without one will not be considered. This attachment will not count toward the page limit.

iv. Coordination—If two or more organizations are applying for the award in the form of a partnership, they must demonstrate an approach to ensure the successful collaboration including clear delineation of respective roles and responsibilities. The applicants must also identify the lead organization, which must bear legal liability for the project, and submit the partnership or sub-contract agreement as an attachment (which will not count toward the page limit).

v. Experience—The application must include information about previous grant, cooperative agreements, or contracts of the applicant with USDOL and other entities that are relevant to this solicitation including:

(a) The organizations for which the work was done;

(b) A contact person in that organization with his/her current phone number;

(c) The dollar value of the grant, contract, or cooperative agreement for the project;

(d) The time frame and professional effort involved in the project;

(e) A brief summary of the work performed; and

(f) A brief summary of accomplishments.

This information on previous grants, cooperative agreements, and contracts held by the applicant must be provided in appendices and will not count against the maximum page requirement.

Note to All Applicants: In judging organizational capacity, USDOL will take into account not only information provided by an applicant, but also information from the Department regarding past performance of organizations already implementing Child Labor Education Initiative projects or activities for USDOL. Past performance will be rated by such factors as the timeliness of deliverables, and the responsiveness of the organization and its staff to USDOL communications regarding deliverables and cooperative agreement or contractual requirements. Lack of past experience with USDOL projects, cooperative agreements, grants, or contracts is not a bar to eligibility or selection under this Solicitation.

C. Management Plan/Key Personnel/Staffing (25 Points)

Successful performance of the proposed work depends heavily on the management skills and qualifications of the individuals committed to the project. Accordingly, in its evaluation of each application, USDOL will place emphasis on the applicant's management approach and commitment of personnel qualified for the work involved in accomplishing the assigned tasks. This section of the application must include sufficient information to judge management and staffing plans, and the experience and competence of program staff proposed for the project to assure that they meet the required qualifications.

Note that management and professional technical staff members comprising the applicant's proposed team should be individuals who have prior experience with organizations working in similar efforts, and who are fully qualified to perform work specified in the Statement of Work. Where sub-contractors or outside assistance are proposed, organizational lines of authority and responsibility should be clearly delineated to ensure responsiveness to the needs of USDOL.

Note to All Applicants: USDOL strongly recommends that key personnel allocate at least 50 percent of their time to the project and be present within the country. Except in Niger, USDOL prefers that key personnel positions not be combined unless the applicant can propose a cost-effective strategy that ensures that all key management and technical functions (as identified in this solicitation) are clearly defined and satisfied. In Niger, key personnel functions may be combined. Key personnel must sign letters of agreement to serve on the project, and indicate availability to commence work within three weeks of cooperative agreement award. Applicants must submit these letters as an attachment to the application. (These will not count toward the page limit).

i. Key personnel—The applicant must identify all key personnel proposed to carry out the requirements of this solicitation. “Key personnel” are staff (Project Director, Education Specialist, and Monitoring and Evaluation Officer) who are essential to the successful operation of the project and completion of the proposed work and, therefore, may not be replaced or have hours reduced without the approval of the Grant Officer. If key personnel are not designated, the application will not be considered.

(a) A Project Director to oversee the project and be responsible for implementation of the requirements of the cooperative agreement. The Project Director must have a minimum of three years of professional experience in a leadership role in implementation of complex basic education programs in developing countries in areas such as: Education policy; improving educational quality and access; educational assessment of disadvantaged students; development of community participation in the improvement of basic education for disadvantaged children; and monitoring and evaluation of basic education projects. Consideration will be given to candidates with additional years of experience including experience working with officials of ministries of education and/or labor. Preferred candidates must also have knowledge of exploitive child labor issues, and experience in the development of transitional, formal, and vocational education of children removed from exploitive child labor and/or victims of the worst forms of child labor. Fluency in English is required and working knowledge of the official language(s) spoken in the target country is preferred.

(b) An Education Specialist who will provide leadership in developing the technical aspects of this project in collaboration with the Project Director. This person must have at least three years experience in basic education projects in developing countries in areas including student assessment, teacher training, educational materials development, educational management, and educational monitoring and information systems. This person must have experience in working successfully with ministries of education, networks of educators, employers' organizations and trade union representatives or comparable entities. Additional experience with exploitive child labor/education policy and monitoring and evaluation is an asset. A working knowledge of English is preferred, as is a similar knowledge of the official language(s) spoken in the target country.

(c) A Monitoring and Evaluation Officer who will serve at least part-time and oversee the implementation of the project's monitoring and evaluation strategies and requirements. This person should have at least three years progressively responsible experience in the monitoring and evaluation of international development projects, preferably in education and training or a related field. Related experience can include strategic planning and performance measurement, indicator selection, quantitative and qualitative data collection and analysis methodologies, and knowledge of the Government Performance and Results Act (GPRA). Individuals with a demonstrated ability to build capacity of the project team and partners in these domains will be given special consideration.

Information provided on key personnel must include the following:

• The educational background and experience of all key personnel to be assigned to the project.

• The special capabilities of key personnel that demonstrate prior experience in organizing, managing and performing similar efforts.

• The current employment status of key personnel and availability for this project. The applicant must also indicate whether the proposed work will be performed by persons currently employed or is dependent upon planned recruitment or sub-contracting.

ii. Other Personnel—The applicant must identify other program personnel proposed to carry out the requirements of this solicitation.

iii. Management Plan—The management plan must include the following:

(a) A description of the functional relationship between elements of the project's management structure; and

(b) The responsibilities of project staff and management and the lines of authority between project staff and other elements of the project.

iv. Staff Loading Plan—The staff loading plan must identify all key tasks and the person-days required to complete each task. Labor estimated for each task must be broken down by individuals assigned to the task, including sub-contractors and consultants. All key tasks should be charted to show time required to perform them by months or weeks.

v. Roles and Responsibilities—The applicant must include a resume and description of the roles and responsibilities of all personnel proposed. Resumes must be included as an attachment that will not count toward the page limit. At a minimum, each resume must include: the individual's current employment status and previous work experience, including position title, duties, dates in position, employing organizations, and educational background. Duties must be clearly defined in terms of role performed, e.g., manager, team leader, and/or consultant. Indicate whether the individual is currently employed by the applicant, and (if so) for how long.

D. Leverage of Grant Funding (5 Points)

USDOL will give up to five (5) additional rating points to applications that include non-Federal resources that significantly expand the dollar amount, size and scope of the application. These programs will not be financed by the project, but can complement and enhance project objectives. Applicants are also encouraged to leverage activities, such as micro-credit, revolving funds, or loan guarantees, which are not directly allowable under the cooperative agreement. To be eligible for the additional points, the applicant must list the source(s) of funds, the nature, and possible activities anticipated with these funds under this cooperative agreement and any partnerships, linkages or coordination of activities, cooperative funding, etc.

2. Review and Selection Process

USDOL will screen all applications to determine whether all required elements are present and clearly identifiable. Each complete application will be objectively rated by a technical panel against the criteria described in this announcement. Applicants are advised that panel recommendations to the Grant Officer are advisory in nature. The Grant Officer may elect to select a Grantee on the basis of the initial application submission; or, the Grant Officer may establish a competitive or technically acceptable range from which qualified applicants will be selected. If deemed appropriate, the Grant Officer may call for the preparation and receipt of final revisions of applications, following which the evaluation process described above may be repeated, in whole or in part, to consider such revisions. The Grant Officer will make final selection determinations based on panel findings and consideration of factors that represent the greatest advantage to the government, such as cost, the availability of funds, and other factors. The Grant Officer's determinations for awards under this solicitation are final.

Note to All Applicants: Selection of an organization as a cooperative agreement recipient does not constitute approval of the cooperative agreement application as submitted. Before the actual cooperative agreement is awarded, USDOL may enter into negotiations about such items as program components, funding levels, and administrative systems in place to support cooperative agreement implementation. If the negotiations do not result in an acceptable submission, the Grant Officer reserves the right to terminate the negotiation and decline to fund the application. Award may also be contingent upon an exchange of project support letters between USDOL and the relevant ministries in target countries.

3. Anticipated Announcement and Award Dates

Designation decisions will be made, where possible, within 45 days after the deadline for submission of proposals. USDOL is not obligated to make any awards as result of this solicitation, and only the Grant Officer can bind USDOL to the provision of funds under this solicitation. Unless specifically provided in the cooperative agreement, USDOL's acceptance of a proposal and/or award of Federal funds does not waive any cooperative agreement requirements and/or procedures.

VI. Award Administration Information

1. Award Notices

The Grant Officer will notify applicants of designation results as follows:

Designation Letter: The designation letter signed by the Grant Officer will serve as official notice of an organization's designation. The designation letter will be accompanied by a cooperative agreement and USDOL/ILAB's Management Procedures and Guidelines (MPG).

Non-Designation Letter: Any organization not designated will be notified formally of the non-designation and given the basic reasons for the determination.

Notification by a person or entity other than the Grant Officer that an organization has or has not been designated is not valid.

2. Administrative and National Policy Requirements

A. General

Grantee organizations are subject to applicable U.S. Federal laws (including provisions of appropriations law) and the applicable Office of Management and Budget (OMB) Circulars. If during project implementation a Grantee is found in violation of U.S. government laws and regulations, the terms of the cooperative agreement awarded under this solicitation may be modified by USDOL, costs may be disallowed and recovered, the cooperative agreement may be terminated, and USDOL may take other action permitted by law. Determinations of allowable costs will be made in accordance with the applicable U.S. Federal cost principles. Grantees must also submit to an annual independent audit, and costs for such an audit should be included in direct or indirect costs, whichever is appropriate.

The cooperative agreements awarded under this solicitation are subject to the following administrative standards and provisions, and any other applicable standards that come into effect during the term of the cooperative agreement, if applicable to a particular Grantee:

i. 29 CFR Part 31—Nondiscrimination in Federally Assisted Programs of the Department of Labor— Effectuation of Title VI of the Civil Rights Act of 1964.

ii. 29 CFR Part 32—Nondiscrimination on the Basis of Handicap in Programs and Activities Receiving or Benefiting from Federal Financial Assistance.

iii. 29 CFR Part 33—Enforcement of Nondiscrimination on the Basis of Handicap in Programs or Activities Conducted by the Department of Labor.

iv. 29 CFR Part 35—Nondiscrimination on the Basis of Age in Programs or Activities Receiving Federal Financial Assistance from the Department of Labor.

v. 29 CFR Part 36—Federal Standards for Nondiscrimination on the Basis of Sex in Education Programs or Activities Receiving Federal Financial Assistance.

vi. 29 CFR Part 93—New Restrictions on Lobbying.

vii. 29 CFR Part 95—Uniform Administrative Requirements for Grants and Agreements with Institutions of Higher Education, Hospitals and other Non-Profit Organizations, and with Commercial Organizations, Foreign Governments, Organizations Under the Jurisdiction of Foreign Governments and International Organizations.

viii. 29 CFR Part 96—Federal Standards for Audit of Federally Funded Grants, Contracts and Agreements.

ix. 29 CFR Part 98—Federal Standards for Government-wide Debarment and Suspension (Nonprocurement) and Government-wide Requirements for Drug-Free Workplace (Grants).

x. 29 CFR Part 99—Federal Standards for Audits of States, Local Governments, and Non-Profit Organizations.

Applicants are reminded to budget for compliance with the administrative requirements set forth. This includes the cost of performing administrative activities such as annual financial audits, closeout, mid-term and final evaluations, document preparation, as well as compliance with procurement and property standards. Copies of all regulations referenced in this solicitation are available at no cost, on-line, at http://www.dol.gov.

Grantees should be aware that terms outlined in this solicitation, the cooperative agreement, and the MPGs are applicable to the implementation of projects awarded under this solicitation.

B. Sub-Contracts

Sub-contracts must be awarded in accordance with 29 CFR 95.40-48. In compliance with Executive Orders 12876, as amended, 13230, 12928 and 13021, as amended, Grantees are strongly encouraged to provide sub-contracting opportunities to Historically Black Colleges and Universities, Hispanic-Serving Institutions and Tribal Colleges and Universities. To the extent possible, sub-contracts granted after the cooperative agreement is signed must be awarded through a formal competitive bidding process, unless prior written approval is obtained from USDOL/ILAB.

C. Key Personnel

As noted in Section V(1)(C), the applicant must list the individual(s) who has/have been designated as having primary responsibility for the conduct and completion of all project work. The applicant must submit written proof that key personnel (Project Director, Education Specialist, and Monitoring and Evaluation Officer) will be available to begin work on the project no later than three weeks after award. Grantees agree to inform the Grant Officer's Technical Representative (GOTR) whenever it appears impossible for this individual(s) to continue work on the project as planned. A Grantee may nominate substitute key personnel and submit the nominations to the GOTR; however, a Grantee must obtain prior approval from the Grant Officer for all changes to key personnel. If the Grant Officer is unable to approve the key personnel change, he/she reserves the right to terminate the cooperative agreement or disallow costs.

D. Encumbrance of Cooperative Agreement Funds

Cooperative agreement funds may not be encumbered/obligated by a Grantee before or after the period of performance. Encumbrances/obligations outstanding as of the end of the cooperative agreement period may be liquidated (paid out) after the end of the cooperative agreement period. Such encumbrances/obligations may involve only specified commitments for which a need existed during the cooperative agreement period and that are supported by approved contracts, purchase orders, requisitions, invoices, bills, or other evidence of liability consistent with a Grantee's purchasing procedures and incurred within the cooperative agreement period. All encumbrances/obligations incurred during the cooperative agreement period must be liquidated within 90 days after the end of the cooperative agreement period, if practicable.

All equipment purchased with project funds must be inventoried and secured throughout the life of the project. At the end of the project, USDOL and the Grantees are expected to determine how to best allocate equipment purchased with project funds in order to ensure sustainability of efforts in the projects' implementing areas.

E. Site Visits

USDOL, through its authorized representatives, has the right, at all reasonable times, to make site visits to review project accomplishments and management control systems and to provide such technical assistance as may be required. If USDOL makes any site visit on the premises of a Grantee or a sub-contractor(s) under this cooperative agreement, a Grantee shall provide and shall require its sub-contractors to provide all reasonable facilities and assistance for the safety and convenience of government representatives in the performance of their duties. All site visits and evaluations are expected to be performed in a manner that will not unduly delay the implementation of the project.

3. Reporting and Deliverables

In addition to meeting the above requirements, a Grantee is expected to monitor the implementation of the program, report to USDOL on a quarterly basis, and undergo evaluations of program results. Guidance on USDOL procedures and management requirements will be provided to Grantees in the MPGs with the cooperative agreement. The project budget must include funds to: plan, implement, monitor, and evaluate programs and activities (including mid-term and final evaluations and annual audits); conduct studies pertinent to project implementation; establish education baselines to measure program results; and finance travel by field staff and key personnel to meet annually with USDOL officials in Washington, DC. Applicants based both within and outside the United States should also budget for travel by field staff and other key personnel to Washington, DC, at the beginning of the project for a post-award meeting with USDOL. Indicators of project performance will also be proposed by a Grantee and approved by USDOL in the Performance Monitoring Plan, as discussed in Section VI(3)(D) below. Unless otherwise indicated, a Grantee must submit copies of all required reports to ILAB by the specified due dates.

Note to All Applicants: USDOL provides its Grantees with training and technical assistance to refine the quality of deliverables. This assistance includes workshops to refine project design and improve performance monitoring plans, and reporting on Child Labor Education Initiative common indicators.

Exact timeframes for completion of deliverables will be addressed in the cooperative agreement and the MPGs.

Specific deliverables are the following:

A. Project design document. As stated in Sections I(2) and IV(2), applications must include a preliminary project design document in the format described in Appendix A, with design elements linked to a logical framework matrix. (Note: The supporting logical framework matrix will not count in the 45-page limit but should be included as an annex to the project document. To guide applicants, a sample logical framework matrix for a hypothetical Child Labor Education Initiative project is available at http://www.dol.gov/ILAB/grants/sga0410/bkgrdSGA0410.htm.). The preliminary project document must include a background/justification section, project strategy (goal, purpose, outputs, activities, indicators, means of verification, assumptions), project implementation timetable, and project budget. The narrative must address the criteria/themes described in the Program Design/Budget-Cost Effectiveness section (Section V(1)(A) above).

Within six months after the time of the award, the Grantee must deliver the final project design document, based on the application written in response to this solicitation, including the results of additional consultation with stakeholders, partners, and ILAB. The final project design document must also include sections that address coordination strategies, project management and sustainability.

B. Progress and financial reports. The format for the progress reports will be provided in the MPG distributed after the award. Grantees must furnish a typed technical progress report and a financial report (SF 269) to USDOL/ILAB on a quarterly basis by 31 March, 30 June, 30 September, and 31 December of each year during the cooperative agreement period. Also, a copy of the Federal Cash Transactions Report (PSC 272) should be submitted to ILAB upon submission to the Health and Human Services—Payment Management System (HHS-PMS).

C. Annual work plan. Grantees must develop an annual work plan within six months of project award for approval by ILAB so as to ensure coordination with other relevant social actors throughout the country. Subsequent annual work plans must be delivered no later than one year after the previous one.

D. Performance monitoring and evaluation plan. Grantees must develop a performance monitoring and evaluation plan in collaboration with USDOL/ILAB, including beginning and ending dates for the project, indicators and methods and cost of data collection, planned and actual dates for mid-term review, and final end of project evaluations. The performance monitoring plan must be developed in conjunction with the logical framework project design and common indicators for reporting selected by ILAB. The plan must include a limited number of key indicators that can be realistically measured within the cost parameters allocated to project monitoring. Baseline data collection are expected to be tied to the indicators of the project design document and the performance monitoring plan. A draft monitoring and evaluation plan will be submitted to ILAB within six months of project award.

E. Project evaluations. Grantees and the GOTR will determine on a case-by-case basis whether mid-term evaluations will be conducted by an internal or external evaluation team. All final evaluations must be external and independent in nature. A Grantee must respond in writing to any comments and recommendations provided in the mid-term evaluation report. The budget must include the projected cost of mid-term and final evaluations.

VII. Agency Contacts

All inquiries regarding this solicitation should be directed to: Ms. Lisa Harvey, U.S. Department of Labor, Procurement Services Center, 200 Constitution Avenue, NW., Room N-5416, Washington, DC 20210; telephone (202) 693-4570 (this is not a toll-free-number) or e-mail: harvey.lisa@dol.gov.

VIII. Other Information

1. Materials Prepared Under the Cooperative Agreement

Grantees must submit to USDOL/ILAB, for approval, all media-related, awareness-raising, and educational materials developed by the Grantee or its sub-contractors before they are reproduced, published, or used. USDOL/ILAB considers such materials to include brochures, pamphlets, videotapes, slide-tape shows, curricula, and any other training materials used in the program. USDOL/ILAB will review materials for technical accuracy.

In addition, USDOL/ILAB reserves a royalty-free, nonexclusive, and irrevocable right to reproduce, publish, or otherwise use for Federal purposes, and authorize others to do so, all materials that are developed or for which ownership is purchased by the Grantee under an award.

2. Acknowledgment of USDOL Funding

USDOL has established procedures and guidelines regarding acknowledgment of funding. USDOL requires, in most circumstances, that the following be displayed on printed materials:

“Funding provided by the United States Department of Labor under Cooperative Agreement No. E-9-X-X-XXXX.”

With regard to press releases, requests for proposals, bid solicitations, and other documents describing projects or programs funded in whole or in part under this cooperative agreement, all Grantees are required to consult with USDOL/ILAB on: acknowledgment of USDOL funding; general policy issues regarding international child labor; and informing USDOL, to the extent possible, of major press events and/or interviews. More detailed guidance on acknowledgement of USDOL funding will be provided upon award to the Grantee(s) in the cooperative agreement and the MPG. In consultation with USDOL/ILAB, USDOL will be acknowledged in one of the following ways:

A. The USDOL logo may be applied to USDOL-funded material prepared for worldwide distribution, including posters, videos, pamphlets, research documents, national survey results, impact evaluations, best practice reports, and other publications of global interest. A Grantee must consult with USDOL/ILAB on whether the logo may be used on any such items prior to final draft or final preparation for distribution. In no event will the USDOL logo be placed on any item until USDOL/ILAB has given a Grantee written permission to use the logo on the item.

B. The following notice must appear on all documents: “This document does not necessarily reflect the views or policies of the U.S. Department of Labor, nor does mention of trade names, commercial products, or organizations imply endorsement by the U.S. Government.”

3. Privacy and Freedom of Information

Any information submitted in response to this solicitation will be subject to the provisions of the Privacy Act and the Freedom of Information Act, as appropriate.

Signed at Washington, DC, this 21st day of July, 2004.
John Huotari,
Acting Grant Officer.

Appendix A: Project Document Format

Executive Summary

1. Background and Justification.

2. Target Groups.

3. Program Approach and Strategy.

3.1 Narrative of Approach and Strategy (linked to Logical Framework matrix in Annex A).

3.2 Project Implementation Timeline (Gantt Chart of Activities linked to Logical Framework matrix in Annex A).

3.3 Budget (with cost of Activities linked to Outputs for Budget Performance Integration in Annex B).

4. Project Monitoring and Evaluation.

4.1 Indicators and Means of Verification.

4.2 Baseline Data Collection Plan.

5. Institutional and Management Framework.

5.1 Institutional Arrangements for Implementation.

5.2 Collaborating and Implementing Institutions (Partners) and Responsibilities.

5.3 Other Donor or International Organization Activity and Coordination.

5.4 Project Management Organizational Chart.

6. Inputs.

6.1 Inputs provided by USDOL.

6.2 Inputs provided by the Grantee.

6.3 National and/or Other Contributions.

7. Sustainability

Annex A: Full presentation of the Logical Framework matrix.

Annex B: Outputs Based Budget example.

(A worked example of a Logical Framework matrix, an Outputs Based Budget, and other background documentation for this solicitation are available from the USDOL/ILAB Web site at http://www.dol.gov/ILAB/grants/sga0410/bkgrdSGA0410.htm.)

[FR Doc. 04-17043 Filed 7-26-04; 8:45 am]

BILLING CODE 4510-28-P